Title 3—

The President

Proclamation 9639 of September 15, 2017

Constitution Day, Citizenship Day, and Constitution Week, 2017

By the President of the United States of America

A Proclamation

On the 230th anniversary of the Constitution of the United States, we celebrate the enduring brilliance of our Founding Charter and recognize all American citizens. Older than any other written constitution in use today, our Constitution establishes a system of checks and balances designed to preserve liberty, promote prosperity, and ensure the security of our beloved country. On this day and during this week, we recall the people and the principles that made our Nation great and commit ourselves to restoring that greatness.

Our Constitution is founded on a fundamental trust in America's citizens. “We the People,” the Constitution proclaims, are the source of all governmental authority. We are, as President Lincoln declared in the war-torn fields of Gettysburg, a “Government of the People, by the People, for the People.” That is why we must be particularly mindful of a would-be ruling class that has lost sight of this foundational truth. In the drive for progressive reform, our Federal Government has grown beyond belief and has layered regulation on top of burdensome regulation. American citizens and businesses face an unrelenting onslaught of rules and regulations adopted by an army of regulators unaccountable to the citizens they seek to control.

My solemn promise as President is to return power to the American People—to the workers and the warriors who made this Nation great and will make it great again. Restoring this founding principle of accountability requires us to once again respect the structural safeguards of our great Constitution. The Framers of our Constitution sought to preserve liberty by separating government power. In our constitutional system, the Congress is charged with authoring and amending the laws, in accordance with its beliefs about what will benefit our country. The President's duty is to execute those laws and protect the Nation, consistent with the Constitution. And the Judiciary's role is to faithfully apply the Constitution and the laws to resolve specific cases and controversies. Modern government, however, has rebelled against the constraints inherent in these defined roles, abandoning that original design in favor of a centralized system of out-of-control agencies that claim independence from elected leaders and demand deference from the courts.

On this day and during this week, I call on all citizens and all branches of government to reflect on the original meaning of our Constitution, and to recall the founding principles we too frequently forget: Our government exists to preserve freedom and to serve its citizens. We are accountable to the People. And the public deserves clear, intelligible laws that are enacted through an open, Constitutional process.

As the elected head of the Executive Branch, I call on Federal agencies to reduce the crushing burdens of the regulatory state and to restore fairness, transparency, and due process in all regulatory matters. We are here to enable the greatness of our Nation, not to restrain it. I call on the Congress to take up critical legislative measures, and to work together to set free the full potential of our People. I call on Federal judges to apply the law as it exists, not as they wish it to be—to exercise, in the words of our Founders, “neither force nor will, but merely judgment.” And I call on all American citizens to pursue greatness in their lives through hard work and the insistence that their government exists only by the people, and for the people, of this great land.

The Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, DONALD J. TRUMP, President of the United States of America, by virtue of the authority vested in me by the Constitution and the laws of the United States, do hereby proclaim September 17, 2017, as Constitution Day and Citizenship Day, and September 17, 2017, through September 23, 2017, as Constitution Week. On this day and during this week, we celebrate the citizens and the Constitution that has made America the greatest Nation this world has ever known. In doing so, we recommit ourselves to the enduring principles of the Constitution and thereby “secure the Blessings of Liberty to ourselves and our Posterity.”

IN WITNESS WHEREOF, I have hereunto set my hand this fifteenth day of September, in the year of our Lord two thousand seventeen, and of the Independence of the United States of America the two hundred and forty-second.

[FR Doc. 2017-20376

Filed 9-20-17; 11:15 am]

Billing code 3295-F7-P